DEPARTMENT OF COMMERCE

National Oceanic and Atmospheric Administration

[RTID 0648-XA170]

North Pacific Fishery Management Council; Public Meeting

AGENCY: National Marine Fisheries Service (NMFS), National Oceanic and Atmospheric Administration (NOAA), Commerce.

ACTION: Notice of public meeting.

SUMMARY: The North Pacific Fishery Management Council's (Council) Cook Inlet Salmon Committee will meet May 26, 2020 via web conference.

DATES: The meeting will be held on Tuesday, May 26, 2020, from 9 a.m. to 5 p.m., Alaska Daylight Time.

ADDRESSES: The meeting will be a web conference. Join online through the link at https://meetings.npfmc.org/Meeting/Details/1483.

Council address: North Pacific Fishery Management Council, 1007 W 3rd Ave, Anchorage, AK 99501-2252; telephone: (907) 271-2809. Instructions for attending the meeting via web conference are given under Connection Information, below.

FOR FURTHER INFORMATION CONTACT: Jim Armstrong, Council staff; email: james.armstrong@noaa.gov. For technical support please contact administrative Council staff, email: npfmc.admin@noaa.gov.

SUPPLEMENTARY INFORMATION:

Agenda

Tuesday, May 26, 2020

The agenda for the meeting will include Committee member proposals for additional management measures under Alternative 2 and Alternative 2-expanded scope, Committee action on final management measure recommendations, review of progress and further development on the Environmental Assessment and Regulatory Impact Review, and a discussion of next steps and the timeline for the amendment. The Agenda is subject to change, and the latest version will be posted at https://meetings.npfmc.org/Meeting/Details/1483 prior to the meeting, along with meeting materials.

Connection Information

You can attend the meeting online using a computer, tablet, or smart phone; or by phone only. Connection information will be posted online at: https://meetings.npfmc.org/Meeting/Details/1483. For technical support please contact our administrative staff, email: npfmc.admin@noaa.gov.

Public Comment

Public comment will be accepted and should be submitted electronically to https://meetings.npfmc.org/Meeting/Details/1483.

Special Accommodations

The meeting is accessible to people with disabilities. Requests should be directed to Shannon Gleason at (907) 903-3107 at least 7 working days prior to the meeting date.

(Authority: 16 U.S.C. 1801 et seq.)

Dated: May 5, 2020.
Tracey L. Thompson,
Acting Deputy Director, Office of Sustainable Fisheries, National Marine Fisheries Service.

[FR Doc. 2020-09881 Filed 5-7-20; 8:45 am]

BILLING CODE 3510-22-P